Executive Order 13644 of May 21, 2013

Amendment to Executive Order 13639

By the authority vested in me as President by the Constitution and the laws of the United States of America, it is hereby ordered as follows:

Section 1. Amendment to Executive Order 13639. Section 2 of Executive Order 13639 of March 28, 2013 (Establishment of the Presidential Commission on Election Administration), is amended by striking subsection 2(a) in its entirety and inserting in lieu thereof the following:

“(a) The Commission shall be composed of not more than ten members appointed by the President. The members shall be drawn from among distinguished individuals with knowledge about or experience in the administration of State or local elections, as well as representatives of successful customer service-oriented businesses, and any other individuals with knowledge or experience determined by the President to be of value to the Commission.”

Sec. 2. General Provisions. (a) Nothing in this order shall be construed to impair or otherwise affect:

(i) the authority granted by law to a department, agency, or the head thereof; or

(ii) the functions of the Director of the Office of Management and Budget relating to budgetary, administrative, or legislative proposals.

(b) This order is not intended to, and does not, create any right or benefit, substantive or procedural, enforceable at law or in equity by any party against the United States, its departments, agencies, or entities, its officers, employees, or agents, or any other person.

THE WHITE HOUSE,

May 21, 2013.

[FR Doc. 2013-12650

Filed 5-23-13; 11:15 am]

Billing code 3295-F3